DEPARTMENT OF TRANSPORTATION

Federal Aviation Administration

14 CFR Part 39

[Docket No. FAA-2010-1041; Directorate Identifier 2010-NM-198-AD; Amendment 39-16493; AD 2010-23-04]

RIN 2120-AA64

Airworthiness Directives; Bombardier, Inc. Model DHC-8-400 Series Airplanes

AGENCY: Federal Aviation Administration (FAA), Department of Transportation (DOT).

ACTION: Final rule; request for comments.

SUMMARY: We are adopting a new airworthiness directive (AD) for the products listed above. This AD results from mandatory continuing airworthiness information (MCAI) originated by an aviation authority of another country to identify and correct an unsafe condition on an aviation product. The MCAI describes the unsafe condition as:

Several reports have been received of cracked nacelle attachment fittings. The preliminary investigation determined the cause to be stress corrosion. Stress corrosion cracking could compromise the structural integrity of the nacelle attachment fitting and could adversely affect the safe landing of the aeroplane.

Failure of the fitting could result in collapse of the landing gear. This AD requires actions that are intended to address the unsafe condition described in the MCAI.

DATES: This AD becomes effective November 22, 2010.

The Director of the Federal Register approved the incorporation by reference of a certain publication listed in the AD as of November 22, 2010.

We must receive comments on this AD by December 20, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Craig Yates, Aerospace Engineer, Airframe and Mechanical Systems Branch, ANE-171, FAA, New York Aircraft Certification Office, 1600 Stewart Avenue, Suite 410, Westbury, New York 11590; telephone (516) 228-7355; fax (516) 794-5531.

SUPPLEMENTARY INFORMATION:

Discussion

Transport Canada Civil Aviation (TCCA), which is the aviation authority for Canada, has issued Canadian Airworthiness Directive CF-2010-30R1, dated September 21, 2010 (referred to after this as “the MCAI”), to correct an unsafe condition for the specified products. The MCAI states:

Several reports have been received of cracked nacelle attachment fittings. The preliminary investigation determined the cause to be stress corrosion. Stress corrosion cracking could compromise the structural integrity of the nacelle attachment fitting and could adversely affect the safe landing of the aeroplane.

This [Canadian] directive, as an interim, mandates a detailed visual inspection [for cracking] and conductivity check of each of the four (4) nacelle attachment fittings.

Revision 1 of this [Canadian] directive is issued to update the aircraft serial number (S/N) applicability based on the latest crack findings and also to revise the acceptable conductivity values in Part I.A. In addition, Part II. has been added to provide instructions for newly affected aircraft and aircraft that have replaced nacelle attachment fittings.

Failure of the fitting could result in collapse of the landing gear. Required actions include repetitive detailed inspections and replacement of the fittings, depending on inspection findings. You may obtain further information by examining the MCAI in the AD docket.

Relevant Service Information

Bombardier has issued Service Bulletin 84-54-14, Revision J, dated September 17, 2010. For certain airplanes, this service bulletin describes procedures for a conductivity inspection and a repetitive detailed inspection for cracking of the nacelle attachment fittings. If the inspections find cracking, this service bulletin specifies replacement of the fitting, or if the inspection finds certain conductivity results, a daily repetitive detailed inspection until replacement of the fitting is accomplished. For certain other airplanes, this service bulletin describes repetitive detailed inspections for cracking of the nacelle attachment fittings and replacement of the fitting if any cracking is found. For all airplanes, this service bulletin specifies that replacement of the fitting extends the compliance time for the first repetitive detailed inspection on that fitting. The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a Note within the AD.

FAA's Determination of the Effective Date

An unsafe condition exists that requires the immediate adoption of this AD. The FAA has found that the risk to the flying public justifies waiving notice and comment prior to adoption of this rule because there is a possibility that stress corrosion cracking of the fitting, if undetected, could adversely affect safe landing. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2010-1041; Directorate Identifier 2010-NM-198-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-23-04 Bombardier, Inc.: Amendment 39-16493. Docket No. FAA-2010-1041; Directorate Identifier 2010-NM-198-AD.

Effective Date

(a) This airworthiness directive (AD) becomes effective November 22, 2010.

Affected ADs

(b) None.

Applicability

(c) This AD applies to Bombardier, Inc. Model DHC-8-400, -401, and -402 airplanes, certificated in any category, serial numbers 4001 and subsequent.

Subject

(d) Air Transport Association (ATA) of America Code 54: Nacelles/Pylons.

Reason

(e) The mandatory continued airworthiness information (MCAI) states:

Several reports have been received of cracked nacelle attachment fittings. The preliminary investigation determined the cause to be stress corrosion. Stress corrosion cracking could compromise the structural integrity of the nacelle attachment fitting and could adversely affect the safe landing of the aeroplane.

Failure of the fitting could result in collapse of the landing gear.

Compliance

(f) You are responsible for having the actions required by this AD performed within the compliance times specified, unless the actions have already been done.

Actions

Inspection and Conductivity Inspection of the Nacelle Attachment Fitting Assembly, Part Number 85414663, for Certain Airplanes

(g) For airplanes having serial numbers 4001 through 4304 inclusive, 4314, and 4315: Within 100 flight hours after the effective date of this AD, do a detailed inspection for cracking, and a conductivity inspection on each of the 4 nacelle attachment fittings, in accordance with the Accomplishment Instructions of Bombardier Service Bulletin 84-54-14, Revision J, dated September 17, 2010. Repeat the detailed inspection at intervals not to exceed 300 flight hours, except as provided by paragraph (j) of this AD.

(1) If any nacelle attachment fitting is found cracked, before further flight, replace the fitting with a new fitting in accordance with paragraph (3) of Part A of the Accomplishment Instructions of Bombardier Service Bulletin 84-54-14, Revision J, dated September 17, 2010.

(2) If the conductivity of any test points on any fitting is found to be greater than 45.0 percent International Annealed Copper Standard (IACS) or if the conductivity of any test points on any fitting is found to be less than 38.0 percent IACS, do the actions required by paragraphs (g)(2)(i) and (g)(2)(ii) of this AD.

(i) Within 24 hours after accomplishing the conductivity inspection specified in paragraph (g) of this AD, do a detailed inspection of the nacelle attachment fitting for cracking, in accordance with the Accomplishment Instructions of Bombardier Service Bulletin 84-54-14, Revision J, dated September 17, 2010, and repeat thereafter at intervals not to exceed 24 hours. If cracking is found, before further flight, replace the fitting with a new fitting in accordance with the requirements of paragraph (g)(2)(ii) of this AD. Replacement of the fitting terminates the daily detailed inspection requirements of this paragraph.

(ii) Except as required by paragraph (g)(2)(i) of this AD: Within 300 flight hours after accomplishing the conductivity inspection specified in paragraph (g) of this AD, replace the fitting with a new fitting in accordance with paragraph (3) of Part A of the Accomplishment Instructions of Bombardier Service Bulletin 84-54-14, Revision J, dated September 17, 2010.

Inspection Reports

(h) Submit a report of the findings (both positive and negative) of the conductivity inspection required by paragraph (g) of this AD to Bombardier, at the applicable time specified in paragraph (h)(1) or (h)(2) of this AD, in accordance with Bombardier Service Bulletin 84-54-14, Revision J, dated September 17, 2010. The report must include the inspection results, a description of any discrepancies found, the airplane serial number, and the number of flight cycles and flight hours on the airplane.

(1) If the inspection was done on or after the effective date of this AD: Submit the report within 14 days after the inspection.

(2) If the inspection was accomplished prior to the effective date of this AD: Submit the report within 14 days after the effective date of this AD.

Inspection of the Nacelle Attachment Fitting Assembly, Part Number 85414663, for Certain Other Airplanes

(i) For airplanes having serial numbers 4305 through 4313 inclusive, and 4316 and subsequent: Within 1,200 flight hours after the effective date of this AD, do a detailed inspection for cracking on each of the 4 nacelle attachment fittings, in accordance with the Accomplishment Instructions of Bombardier Service Bulletin 84-54-14, Revision J, dated September 17, 2010. If any nacelle attachment fitting is found cracked, before further flight, replace the fitting with a new fitting in accordance with paragraph (3) of Part A of the Accomplishment Instructions of Bombardier Service Bulletin 84-54-14, Revision J, dated September 17, 2010. Thereafter, repeat the detailed inspection at intervals not to exceed 300 flight hours, except as provided by paragraph (j) of this AD.

Initial Inspection Compliance Time for New Fittings

(j) For any fitting that is replaced in accordance with paragraph (3) of Part A of the Accomplishment Instructions of Bombardier Service Bulletin 84-54-14, Revision J, dated September 17, 2010, as specified in paragraph (g) or (i) of this AD: Within 1,200 flight hours after replacing the fitting, do a detailed inspection of that replaced fitting as specified in paragraph (g) or (i) of this AD, and repeat the detailed inspection thereafter at intervals not to exceed 300 flight hours.

Credit for Replacing the Fitting Using Previous Service Information

(k) Accomplishing the replacement of the nacelle fittings in accordance with any Bombardier service bulletin identified in Table 1 of this AD before the effective date of this AD is also acceptable for compliance with the fitting replacements specified in paragraphs (g) and (i) of this AD.

Table 1—Acceptable Service Information
Bombardier Service Bulletin— | Revision— | Dated—
84-54-14 | Original | April 16, 2010.
84-54-14 | A | April 22, 2010.
84-54-14 | B | June 11, 2010.
84-54-14 | C | June 30, 2010.
84-54-14 | D | July 5, 2010.
84-54-14 | E | August 19, 2010.
84-54-14 | F | August 20, 2010.
84-54-14 | G | September 9, 2010.
84-54-14 | H | September 10, 2010.

Credit for Inspections Accomplished in Accordance With Previous Service Information

(l) Accomplishment of the inspections required by paragraphs (g) and (i) of this AD before the effective date of this AD in accordance with any Bombardier service bulletin identified in Table 1 of this AD is acceptable for compliance with the corresponding actions required by paragraphs (g) and (i) of this AD.

FAA AD Differences

Note 1: This AD differs from the MCAI and/or service information as follows: Although the MCAI does not state a requirement for submitting inspection reports, this AD requires inspection reports to be submitted to the manufacturer so the manufacturer can gather information on the extent of the problem and develop corrective actions. Based on the results of these reports, we might determine that further rulemaking is warranted. This difference has been coordinated with TCCA.

Other FAA AD Provisions

(m) The following provisions also apply to this AD:

(1) Alternative Methods of Compliance (AMOCs): The Manager, ANE-170, New York Aircraft Certification Office (ACO), FAA, has the authority to approve AMOCs for this AD, if requested using the procedures found in 14 CFR 39.19. Send information to Attn: Program Manager, Continuing Operational Safety, FAA, New York ACO, 1600 Stewart Avenue, Suite 410, Westbury, New York 11590; telephone 516-228-7300; fax 516-794-5531. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(n) Refer to MCAI Canadian Airworthiness Directive CF-2010-30R1, dated September 21, 2010; and Bombardier Service Bulletin 84-54-14, Revision J, dated September 17, 2010; for related information.

Material Incorporated by Reference

(o) You must use Bombardier Service Bulletin 84-54-14, Revision J, dated September 17, 2010, to do the actions required by this AD, unless the AD specifies otherwise.

(1) The Director of the Federal Register approved the incorporation by reference of this service information under 5 U.S.C. 552(a) and 1 CFR part 51.

(2) For service information identified in this AD, contact Bombardier, Inc., Q-Series Technical Help Desk, 123 Garratt Boulevard, Toronto, Ontario M3K 1Y5, Canada; telephone 416-375-4000; fax 416-375-4539; e-mail thd.qseries@aero.bombardier.com; Internet http://www.bombardier.com.

(3) You may review copies of the service information at the FAA, Transport Airplane Directorate, 1601 Lind Avenue SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on October 18, 2010.
Michael J. Kaszycki,
Acting Manager, Transport Airplane Directorate, Aircraft Certification Service.

[FR Doc. 2010-27611 Filed 11-4-10; 8:45 am]

BILLING CODE 4910-13-P